DEPARTMENT OF ENERGY

Federal Energy Regulatory Commission

[Docket No. AD09-8-000]

Transmission Planning Processes Under Order No. 890; Notice Announcing Panelists and Final Agenda for the September 21, 2009 Technical Conference in Philadelphia, PA

September 11, 2009.

On June 30, 2009, the Commission issued a notice (June 30 Notice) scheduling staff technical conferences to examine the transmission planning processes that are being conducted pursuant to Order No. 890.¹ As stated in the June 30 Notice, these technical conferences are intended to meet the Commission's commitment that its staff would conduct an assessment of the Order No. 890 transmission planning processes.

¹ Preventing Undue Discrimination and Preference in Transmission Service, Order No. 890, FERC Stats. & Regs. ¶ 31,241, order on reh'g, Order No. 890-A, FERC Stats. & Regs. ¶ 31,261 (2007), order on reh'g, Order No. 890-B, 123 FERC ¶ 61,299 (2008), order on reh'g, Order No. 890-C, 126 FERC ¶ 61,228 (2009).

On August 3, 2009, the Commission issued a supplemental notice (August 3 Notice) with an agenda providing details on the topics that will be discussed on the panels at each of the three conferences as well as the topics panelists should be prepared to address. The August 3 Notice also reiterated that those wishing to participate as panelists should submit a request form describing the topic(s) they wish to address. In addition, those wishing to attend each conference were asked to complete a registration form. The August 3 Notice stated that a final notice with a list of the panelists for each conference would be issued in advance of the conferences. On August 7, 2009, the Commission issued an errata notice shortening the due date for all requests from those wishing to participate as a panelist at any of the three technical conferences to August 13, 2009.

The attached agenda contains the panelists chosen for the September 21, 2009 Philadelphia, Pennsylvania technical conference to be held at: Marriott Philadelphia Airport, One Arrivals Road, Philadelphia, PA 19153, (215) 492-9000.

Please note that the Philadelphia conference will begin at 8:30 a.m.

Additional panelists may be added prior to the date of the conference.

If they have not already done so, those that plan to attend the Philadelphia conference should submit the registration form, located at: https://www.ferc.gov/whats-new/registration/trans-09-21-form.asp.²

² The Philadelphia conference will address transmission planning for entities located within the Midwest Independent Transmission System Operator, Inc., PJM Interconnection, LLC, New York Independent System Operator, and ISO New England Inc. footprints, Mid-Continent Area Power Pool/MAPP Participants, and adjacent areas. In the event a transmission provider is uncertain as to which technical conference is the appropriate forum for discussion of its planning process, such transmission providers should contact Commission staff in advance to discuss the matter. Lastly, a comment date will be set at a later date allowing for the filing of post-conference comments.

Panelists will provide introductory remarks to begin the discussion of each topic identified in the August 3 notice. The purpose of the introductory remarks is to introduce the topics of discussion, and Staff intends to facilitate a constructive dialogue among all the attendees involved in the planning process and will actively seek to incorporate input from non-panelists and audience members into that dialogue. We strongly encourage all attendees to actively participate in the conference.

For further information about this conference, please contact:

Zeny Magos, Office of Energy Market Regulation, Federal Energy Regulatory Commission, 888 First Street, NE., Washington, DC 20426, (202) 502-8244. zeny.magos@ferc.gov.

John Yakobitis, Office of Energy Market Regulation, Federal Energy Regulatory Commission, 888 First Street, NE., Washington, DC 20426, (202) 502-8512. john.yakobitis@ferc.gov.

Kimberly D. Bose,
Secretary.

[FR Doc. E9-22473 Filed 9-17-09; 8:45 am]

BILLING CODE 6717-01-P